CONSUMER PRODUCT SAFETY COMMISSION

Establishment of a Public Consumer Product Safety Incident Database; Notice of Hearing

AGENCY: Consumer Product Safety Commission.

ACTION: Notice of public hearing.

SUMMARY: The Consumer Product Safety Commission (Commission) will conduct a public hearing to receive views from all interested parties on Section 212 of the Consumer Product Safety Improvement Act of 2008 (CPSIA), Establishment of a Public Consumer Product Safety Incident Database. Participation by members of the public is invited. Oral presentations concerning the Commission's implementation of Section 212 of the Consumer Product Safety Improvement Act of 2008 (CPSIA), Establishment of a Public Consumer Product Safety Incident Database, will become part of the public record.

DATES: The hearing will begin at 9 a.m. on November 10, 2009. Requests to make oral presentations and the written text of any oral presentations must be received by the Office of the Secretary not later than 5 p.m. Eastern Standard Time (EST) on November 3, 2009.

ADDRESSES: The hearing will be in the Hearing Room, 4th Floor of the Bethesda Towers Building, 4330 East West Highway, Bethesda, Maryland 20814. Requests to make oral presentations can be made online at http://www.cpsc.gov/cgibin/dbmeeting.aspx or, send an e-mail, call, or write Todd A. Stevenson, Office of the Secretary, Consumer Product Safety Commission, 4330 East West Highway, Bethesda, Maryland 20814; e-mail cpsc-os@cpsc.gov; telephone (301) 504-7923; facsimile (301) 504-0127 not later than 5 p.m. EST on November 3, 2009. Texts of oral presentations should be captioned “Establishment of a Public Consumer Product Safety Incident Database” and sent by electronic mail (e-mail) to cpsc-os@cpsc.gov, or mailed or delivered to the Office of the Secretary, Consumer Product Safety Commission, 4330 East West Highway, Bethesda, Maryland 20814, not later than 5 p.m. EST on November 3, 2009.

FOR FURTHER INFORMATION CONTACT: For information about the hearing or to request an opportunity to make an oral presentation, please register online at http://www.cpsc.gov/cgibin/dbmeeting.aspx or, send an e-mail, call, or write Todd A. Stevenson, Office of the Secretary, Consumer Product Safety Commission, 4330 East West Highway, Bethesda, Maryland 20814; e-mail cpsc-os@cpsc.gov; telephone (301) 504-7923; facsimile (301) 504-0127. An electronic copy of the CPSC “Report to Congress Pursuant to Section 212 of the Consumer Product Safety Improvement Act of 2008, Implementation of a Searchable Consumer Product Safety Incident Database” can be found at http://www.cpsc.gov/about/cpsia/sect212.html.

SUPPLEMENTARY INFORMATION: On August 14, 2008, the Consumer Product Safety Improvement Act of 2008 (Pub. L. 110-314) became law. Section 212 of the CPSIA amended the Consumer Product Safety Act (CPSA) to create a new section 6A, titled “Publicly Available Consumer Product Safety Information Database.” Section 6A(a)(1) of the CPSA states that the Commission, subject to appropriations, shall “establish and maintain a database on the safety of consumer products, and other products or substances” regulated by the Commission. The statute declares that the database must be publicly available, searchable, and accessible through the Commission's Web site.

The Commission will conduct a public hearing on November 10, 2009, to hear oral comments from interested parties concerning the Commission's establishment of a searchable consumer product safety incident database.

Persons who desire to make oral presentations at the hearing on November 10, 2009, should register online at http://www.cpsc.gov/cgibin/dbmeeting.aspx or, send an e-mail, call, or write Todd A. Stevenson, Office of the Secretary, Consumer Product Safety Commission, 4330 East West Highway, Bethesda, Maryland 20814, e-mail cpsc-os@cpsc.gov, telephone (301) 504-7923, facsimile (301) 504-0127 not later than 5 p.m. EST on November 3, 2009. Presentations should be limited to approximately ten minutes.

Persons desiring to make presentations must submit the text of their presentations to the Office of the Secretary not later than 5 p.m. EST on November 3, 2009. The Commission reserves the right to impose further time limitations on all presentations and further restrictions to avoid duplication of presentations. The hearing will begin at 9 a.m. EST on November 10, 2009, and will conclude the same day.

Dated: October 16, 2009.
Todd A. Stevenson,
Secretary, Consumer Product Safety Commission.

[FR Doc. E9-25420 Filed 10-21-09; 8:45 am]

BILLING CODE 6355-01-P